DEPARTMENT OF STATE

[Public Notice: 10681]

Town Hall Meeting on Modernizing the Columbia River Treaty Regime

AGENCY: Department of State.

ACTION: Notice of meeting.

SUMMARY: The Department of State (Department) will hold a Town Hall meeting, co-hosted by the Northwest Power and Conservation Council, in Kalispell, Montana, to discuss the modernization of the Columbia River Treaty (CRT) regime.

DATES: The meeting will be held on March 20, 2019, from 5:30 p.m. to approximately 7:00 p.m., Mountain Time.

ADDRESSES: The meeting will be held at the Red Lion Hotel Grand Ballroom, 20 S Main St., Suite 150, Kalispell, MT 59901.

FOR FURTHER INFORMATION CONTACT: Julien Katchinoff, Deputy Negotiator, Office of Canadian Affairs, ColumbiaRiverTreaty@state.gov, 202-647-2228.

SUPPLEMENTARY INFORMATION: This Town Hall is part of the Department's public engagement on the modernization of the CRT regime. The meeting is open to the public, up to the capacity of the room. Requests for reasonable accommodation should be made to the email listed above, on or before March 13, 2019. The Department will consider requests made after that date, but might not be able to accommodate them. Information about the meeting, can be found at https://www.state.gov/p/wha/ci/ca/topics/c78892.htm or by emailing the email address listed above. If you are unable to attend in person, you can listen to the Town Hall via phone by calling 1-800-356-8278 and entering the passcode 326034#.

Mark W. Cullinane,
Director, Office of Canadian Affairs, Department of State.

[FR Doc. 2019-03353 Filed 2-26-19; 8:45 am]

BILLING CODE 4710-29-P